DEPARTMENT OF TRANSPORTATION

Pipeline and Hazardous Materials Safety Administration

[Docket No. RSPA-98-4470]

Pipeline Safety: Meetings of the Pipeline Safety Advisory Committees

AGENCY: Pipeline and Hazardous Materials Safety Administration (PHMSA), Department of Transportation (DOT).

ACTION: Notice of meetings.

SUMMARY: This notice announces public meetings of PHMSA's Technical Pipeline Safety Standards Committee (TPSSC) and Technical Hazardous Liquid Pipeline Safety Standards Committee (THLPSSC) to discuss regulatory issues.

DATES: The TPSSC and the THLPSSC will meet in joint sessions on December 13-14, 2005, from 8:30 a.m. to 5 p.m. each day.

ADDRESSES: The meetings will be held at the L'Enfant Plaza Hotel in Washington, DC at 480 L'Enfant Plaza, SW., Washington, DC 20024.

FOR FURTHER INFORMATION CONTACT: For additional information regarding these meetings contact: Cheryl Whetsel at (202) 366-4431; cheryl.whetsel@dot.gov.

SUPPLEMENTARY INFORMATION:

General Meeting Details

Attendees staying at the hotel must make reservations by 5 p.m., November 18, 2005. The phone number for reservations at the hotel is (202) 484-1000. The hotel will give priority to the Committee members and State Pipeline Safety Representatives for rooms blocked under “DOT Technical Advisory Committee Meetings”.

Members of the public may make short statements on the topics under discussion. Anyone wishing to make an oral statement should notify Cheryl Whetsel, no later than November 21, of the topic and the length of the presentation. The presiding officer at each meeting may deny any request to present an oral statement and may limit the time of any presentation.

You may submit written comments by mail or deliver them to the Dockets Facility, U.S. Department of Transportation, Room PL-401, 400 Seventh Street, SW., Washington, DC 20590-0001. The Dockets Facility is open from 9 a.m. to 5 p.m., Monday through Friday, except Federal holidays. You also may submit written comments to the docket electronically by logging onto the following Internet Web address: http://dms.dot.gov. Click on “Help & Information” for instructions on how to file a document electronically. All written comments should reference docket number RSPA-98-4470. Anyone who would like confirmation of mailed comments must include a self-addressed stamped postcard.

Privacy Act Statement: Anyone may search the electronic form of all comments received for any of our dockets. You may review DOT's complete Privacy Act Statement in the Federal Register published on April 11, 2000 (65 FR 19477) or you may visit http://dms.dot.gov.

Information on Services for Individuals with Disabilities: For information on facilities or services for individuals with disabilities, or to request special assistance at the meeting, please contact Cheryl Whetsel at (202) 366-4431 by November 21, 2005.

Background

The TPSSC and the THLPSSC are statutorily mandated advisory committees that make recommendations to PHMSA on proposed safety standards, risk assessments, and safety policies for gas and hazardous liquid pipeline. These advisory committees are established under section 10(a)(2) of the Federal Advisory Committee Act (Pub. L. 92-463, 5 U.S.C. App. 1). The committees consist of 15 members—five each representing government, industry, and the public. The TPSSC and the THLPSSC are tasked with determining reasonableness, cost-effectiveness, and practicability of regulatory initiatives.

Federal law requires PHMSA to submit cost-benefit analyses and risk assessment information on each proposed safety standard to the advisory committees. The TPSSC or THLPSSC evaluate the merits of the data and methods used within the analyses, and, when appropriate, vote on all recommendations relating to the cost-benefit analyses. These committees also assist PHMSA with policy and other issues pertaining to pipeline safety.

In addition to the advisory committee meetings, PHMSA will soon publish a separate notice to announce a public meeting on operator qualification regulatory considerations that will be held on December 15, 2005. This public meeting is being scheduled during the same week as the advisory committee meetings to afford members of the advisory committees, State pipeline safety representatives, and the general public the maximum opportunity to attend both the advisory committee meetings and the operator qualification public meeting.

Meeting Topics

Tuesday, December 13 (8:30 a.m. until 5 p.m.)

The day's agenda includes the following topics:

Responding to National Emergencies—Discuss lessons learned by industry and the Department of Transportation in responding to the most recent large-scale transportation emergencies.

• Gas Gathering Lines—Discuss comments received on the supplemental notice of proposed rulemaking and the associated regulatory analysis.

• Hazardous Liquid Gathering Lines—Discuss the regulatory approach to address the statutory requirement to address unregulated liquid gathering lines that could affect unusually sensitive areas.

• Distribution Integrity Management Program (DIMP)—Discuss DIMP team report findings on approaches to managing the integrity of gas distribution systems.

• Excavation Damage Prevention—Discuss hurricane recovery activities with the Common Ground Alliance (CGAs), approaches to enforcement, and program progress among Regional CGAs.

• Operator Qualifications—Discuss conceptual regulatory approaches to strengthen operator qualification programs. A public meeting on this issue will be held December 15, 2005.

• Annual Update of Standards Incorporated by Reference—Committee vote on NPRM that proposes to update the pipeline safety regulations to incorporate by reference all or parts of new editions of voluntary consensus technical standards.

Wednesday, December 14 (8:30 a.m. until 5 p.m.)

The day's agenda includes the following topics:

• Recommendations on In-Line Inspection Options—Present findings from the public meeting and discuss next steps in enhancing in-line inspection efforts.

• Operator Control Room Issues—Discuss findings of Controller Certification Pilot Program for the Report to Congress, and provide an update on NTSB recommendations to address controller safety issues.

• Integrity Management Program Modifications and Clarifications—Discuss the notice of proposed rulemaking that addresses an API petition to allow more flexibility in scheduling repairs and reassessment intervals of hazardous liquid pipelines.

• Internal Corrosion in Gas Transmission Pipelines—Discuss the notice of proposed rulemaking to address internal corrosion when designing and constructing new and replaced gas transmission pipelines.

• Enforcement—Discuss program strategy and performance goals.

• Liquefied Natural Gas—Discuss PHMSA safety issues addressed in consensus standards and provide an update on the status of Federal Energy Regulatory Commission (FERC) initiatives.

• Reauthorization—Discuss energy and legislative proposals that pertain to pipeline safety.

PHMSA will post more a detailed agenda and any additional information or changes on its Web page (http://phmsa.dot.gov) approximately 15 days before the meeting date.

Authority: 49 U.S.C. 60102, 60115.

Issued in Washington, DC, on October 20, 2005.
Stacey L. Gerard,
Associate Administrator for Pipeline Safety.

[FR Doc. 05-21346 Filed 10-24-05; 8:45 am]

BILLING CODE 4910-60-P